DEPARTMENT OF COMMERCE

National Oceanic and Atmospheric Administration

RIN 0648-XC114

Gulf of Mexico Fishery Management Council; Public Meeting

AGENCY: National Marine Fisheries Service (NMFS), National Oceanic and Atmospheric Administration (NOAA), Commerce.

ACTION: Council to convene public meeting.

SUMMARY: The Gulf of Mexico Fishery Management Council will convene a meeting of the Reef Fish Advisory Panel.

DATES: The meeting will convene at 8:30 a.m. on Monday, August 6, 2012 and conclude by 5 p.m. on Tuesday, August 7, 2012.

ADDRESSES: The meeting will be held at the Gulf of Mexico Fishery Management Council, 2203 North Lois Avenue, Suite 1100, Tampa, FL 33607; telephone: (813) 348-1630.

Council address: Gulf of Mexico Fishery Management Council, 2203 N. Lois Avenue, Suite 1100, Tampa, FL 33607.

FOR FURTHER INFORMATION CONTACT: Mr. Steven Atran, Population Dynamics Statistician; Gulf of Mexico Fishery Management Council; telephone: (813) 348-1630.

SUPPLEMENTARY INFORMATION: The Reef Fish Advisory Panel (AP) will review several amendments that the Council is developing. Amendments for which the Council will take final action at its upcoming meeting in August include a Generic Amendment for Dealer Permits and Electronic Reporting, and Reef Fish Amendment 38 to modify the post-season accountability measures for shallow-water grouper and revise the generic framework procedure for establishing regulatory actions. Amendments for which the Council will review public hearing drafts at its upcoming meeting include Reef Fish Amendment 37 to revise the gray triggerfish rebuilding plan, and a framework action to provide a recreational split season for gag in 2013 and modify or eliminate the fixed closed season of February through March on recreational shallow-water grouper harvest. In other actions, the AP will review a scoping document for a possible amendment to designate petroleum platforms and artificial reefs as essential fish habitat. The AP will also reconsider its recommendations from an October 2011 meeting on vermilion snapper annual catch limits in light of revised analysis and new acceptable biological catch recommendations from the Scientific and Statistical Committee. In addition, the AP will review updated information on fish venting and recompression, and may consider recommendations for changes to the current regulations requiring possession and use of venting tools when fishing for reef fish.

Copies of the agenda and other related materials can be obtained by calling (813) 348-1630 or can be downloaded from the Council's ftp site, ftp.gulfcouncil.org.

Although other non-emergency issues not on the agenda may come before the Advisory Panel for discussion, in accordance with the Magnuson-Stevens Fishery Conservation and Management Act, those issues may not be the subject of formal action during this meeting. Actions of the Advisory Panel will be restricted to those issues specifically identified in the agenda and any issues arising after publication of this notice that require emergency action under Section 305(c) of the Magnuson-Stevens Fishery Conservation and Management Act, provided the public has been notified of the Council's intent to take action to address the emergency.

Special Accommodations

These meetings are physically accessible to people with disabilities. Requests for sign language interpretation or other auxiliary aids should be directed to Kathy Pereira at the Council (see ADDRESSES) at least 5 working days prior to the meeting.

Dated: July 17, 2012.
Tracey L. Thompson,
Acting Deputy Director, Office of Sustainable Fisheries, National Marine Fisheries Service.

[FR Doc. 2012-17682 Filed 7-19-12; 8:45 am]

BILLING CODE 3510-22-P